DEPARTMENT OF TRANSPORTATION

Federal Aviation Administration

14 CFR Part 39

[Docket No. 2000-SW-55-AD]

RIN 2120-AA64

Airworthiness Directives; Eurocopter France Model AS332C, L, L1, and L2; AS350B, BA, B1, B2, B3, and D; AS355E, F, F1, F2, and N; AS-365N2; AS 365 N3; SA330F, G, and J; SA-360C; SA-365C, C1, and C2; SA.316B and C; and SA.319B Helicopters

AGENCY: Federal Aviation Administration, DOT.

ACTION: Notice of proposed rulemaking (NPRM).

SUMMARY: This document proposes adopting a new airworthiness directive (AD) for Eurocopter France (ECF) Model AS332C, L, L1, and L2; AS350B, BA, B1, B2, B3, and D; AS355E, F, F1, F2, and N; AS-365N2; AS 365 N3; SA330F, G, and J; SA-360C; SA-365C, C1, and C2; SA.316B and C; and SA.319B helicopters. This proposal would require a one-time measurement of the electrical resistance between the ferry fuel tank (tank) electrostatic ground connector and the tank filler neck before the next refueling of an installed tank or before the first fueling after installing a tank. If the electrical resistance has a value more than 1.5 milliohms, this proposal would prohibit refueling the tank. This proposal is prompted by reports of an inadequate electrical bond between the electrostatic ground connector and its support on several tank installations. The actions specified by the proposed AD are intended to prevent refueling a tank that is not adequately electrically bonded, which could generate an electric arc between the refueling nozzle and the tank, causing an explosion.

DATES: Comments must be received on or before July 15, 2002.

ADDRESSES: Submit comments in triplicate to the Federal Aviation Administration (FAA), Office of the Regional Counsel, Southwest Region, Attention: Rules Docket No. 2000-SW-55-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Paul Madej, Aviation Safety Engineer, FAA, Rotorcraft Directorate, Rotorcraft Standards Staff, Fort Worth, Texas 76193-0110, telephone (817) 222-5125, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this action may be changed in light of the comments received.

Comments are specifically invited on the overall regulatory, economic, environmental, and energy aspects of the proposed rule. All comments submitted will be available in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2000-SW-55-AD.” The postcard will be date stamped and returned to the commenter.

Availability of NPRMs

Any person may obtain a copy of this NPRM by submitting a request to the FAA, Office of the Regional Counsel, Southwest Region, Attention: Rules Docket No. 2000-SW-55-AD, 2601 Meacham Blvd., Room 663, Fort Worth, Texas 76137.

Discussion

The Direction Generale de L'Aviation Civile (DGAC), the airworthiness authority for France, notified the FAA that an unsafe condition may exist on ECF Model AS332C, L, L1, and L2; AS350B, BA, B1, B2, B3, and D; AS355E, F, F1, F2, and N; AS-365N2; AS 365 N3; SA330F, G, and J; SA-360C; SA-365C, C1, and C2; SA.316B and C; and SA.319B helicopters. The DGAC advises of the absence on several tanks of an electric bond between the electrostatic ground connector and its support. During refueling of a tank, the inadequate electrical bonding could generate an electric arc between the refueling nozzle of the tanker and the tank and could cause the tank to explode.

ECF has issued Telex No. 000112 dated June 6, 2000, which specifies a one-time measurement of the electrical resistance between the tank electrostatic ground connector and the tank filler neck to determine if the value is more than 1.5 milliohms. If the value of the electrical resistance of the electrical bonding is more than 1.5 milliohms, the service telex specifies a secondary procedure for measuring the electrical resistance. If the value of the electrical resistance is more than 1.5 milliohms after the secondary measurement, the tank is unusable and the telex specifies a repair. The DGAC classified this telex as mandatory and issued AD 2000-302(A), dated July 12, 2000, to ensure the continued airworthiness of these helicopters in France.

These helicopter models are manufactured in France and are type certificated for operation in the United States under the provisions of 14 CFR 21.29 and the applicable bilateral airworthiness agreement. Pursuant to this bilateral airworthiness agreement, the DGAC has kept the FAA informed of the situation described above. The FAA has examined the findings of the DGAC, reviewed all available information, and determined that AD action is necessary for products of these type designs that are certificated for operation in the United States.

The FAA has identified an unsafe condition that is likely to exist or develop on other ECF Model AS332C, L, L1, and L2; AS350B, BA, B1, B2, B3, and D; AS355E, F, F1, F2, and N; AS-365N2; AS 365 N3; SA330F, G, and J; SA-360C; SA-365C, C1, and C2 helicopters with a metal tank, part number (P/N) 330A 871310.00, .01, .02, .03, or .04 installed; and Model SA.316B, C; and SA.319B helicopters with a metal tank, P/N 3160S 7375020 or 3160S 7375020-1, installed, of these same type designs registered in the United States. The proposed AD would require, before the next refueling of an installed tank or before the first fueling after installing a tank, a one-time measurement of the electrical resistance between the tank electrostatic ground connector and the tank filler neck to determine if the electrical resistance has a value more than 1.5 milliohms. If the value of the electrical resistance is more than 1.5 milliohms, this proposal would prohibit refueling the tank.

We estimate that a total of 736 U.S. helicopters of U.S. registry would be affected by this proposed AD. Measuring the electrical resistance between the tank electrostatic ground connector and the tank filler neck would take approximately ½ work hour per helicopter to accomplish, and the average labor rate is $60 per work hour. Based on these figures, the total cost impact of the proposed AD on U.S. operators is estimated to be $22,080 for the first refueling of all installed tanks.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2000-SW-55-AD.

Applicability: AS332C, L, L1, and L2; AS350B, BA, B1, B2, B3, and D; AS355E, F, F1, F2, and N; AS-365N2; AS 365 N3; SA330F, G, and J; SA-360C; SA-365C, C1, and C2 helicopters with a metal ferry fuel tank (tank), part number (P/N) 330A 871310.00, .01, .02, .03, or .04, installed; and Model SA.316B and C; and SA.319B helicopters with a metal tank, P/N 3160S 7375020, or 3160S 7375020-1, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before the next refueling of an installed tank or before the first fueling after installing a tank, unless accomplished previously.

To prevent refueling a tank that is not adequately electrically bonded, which could generate an electric arc between the refueling nozzle and the tank, causing a fuel tank explosion, accomplish the following:

(a) Measure the electrical resistance between the tank electrostatic ground connector (item C) and the tank filler neck (item G) as shown in Figure 1 of this AD. If the value of the electrical resistance is more than 1.5 milliohms, refueling the tank is prohibited. See Figure 1 as follows:

BILLING CODE 4910-13-P

Note 2: Eurocopter Telex No. 000112 dated June 6, 2000, pertains to the subject of this AD.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(c) Special flight permits will not be issued.

Note 4: The subject of this AD is addressed in Direction Generale De L'Aviation Civile (France) AD 2000-302(A), dated July 12, 2000.

Issued in Fort Worth, Texas, on May 8, 2002.
David A. Downey,
Manager, Rotorcraft Directorate, Aircraft Certification Service.

[FR Doc. 02-12052 Filed 5-15-02; 8:45 am]

BILLING CODE 4910-13-P